DEPARTMENT OF DEFENSE

Office of the Secretary

[Transmittal No. 24-0L]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 24-0L.

Dated: November 13, 2025.
Aaron T. Siegel,
Alternate OSD Federal Register Liaison Officer, Department of Defense.

BILLING CODE 6001-FR-P

BILLING CODE 6001-FR-C

Transmittal No. 24-0L

REPORT OF ENHANCEMENT OR UPGRADE OF SENSITIVITY OF TECHNOLOGY OR CAPABILITY (SEC. 36(b)(5)(C), AECA)

(i) Purchaser: Government of Canada

(ii) Sec. 36(b)(1), AECA Transmittal No.: 21-17

Date: May 10, 2021

Implementing Agency: Navy

(iii) Description: On May 10, 2021, Congress was notified by congressional certification transmittal number 21-17 of the possible sale, under Section 36(b)(1) of the Arms Export Control Act, of four (4) Shipsets of the AEGIS Combat System (ACS); one (1) AEGIS Combat System Computer Program; four (4) Shipsets of AN/SPY-7 Solid State Radar Components; four (4) Shipsets of Cooperative Engagement Capability (CEC); and three (3) Shipsets of the MK 41 Vertical Launch System. Also included was Mode 5/S capable Identification Friend or Foe (IFF) equipment; early ACS development activities for the Canadian Surface Combatant (CSC) Project to include U.S. Government and contractor representative engineering activities supporting design, integration, testing, technical documentation, modeling, and training; hardware to support development and testing in U.S. facilities; software; documentation (including combat system capabilities and limitations); training devices and services; technical support; and other related elements of logistical and program support. The total estimated value was $1.7 billion. Major Defense Equipment (MDE) constituted $0.7 billion of this total.

On August 10, 2022, Congress was notified by congressional certification transmittal number 0L-22 of the addition of the following MDE items: four (4) shipsets of Global Positioning System Based Positioning, Navigation, and Timing Service (GPNTS). The estimated total value of the MDE items was $8 million, but did not cause an increase in the total estimated program cost. The total estimated case value remained $1.7 billion with MDE remaining $0.7 billion of that total.

This transmittal notifies the inclusion of the following additional MDE items: four (4) AN/WSN-12 Inertial Navigation Systems (INS); two (2) Tactical Tomahawk Weapon Control Systems (TTWCS); five (5) Multifunctional Information Distribution System Joint Tactical Radio Systems (MIDS JTRS) (4 installed, 1 test asset); four (4) MIDS On Ship Modernized (MOS Mod); two (2) Command and Control Processors (C2P); and four (4) AN/SLQ-32(v)6 Electronic Warfare Systems (EWS). The following non-MDE items will also be included: Global Command and Control Systems—Maritime (GCCS-Ms); AN/WSN-7 INS; and MK 331 Torpedo Setting Panels (TSPs). The estimated total value of the new items is $1.1 billion. The estimated value of the new MDE items is $0.2 billion, but this will not cause an increase in the net MDE value. The estimated value of the new non-MDE items is $0.9 billion, and will cause an increase of the net non-MDE value to $1.9 billion. The total estimated value will increase by $0.9 billion to $2.6 billion. MDE will remain as $0.7 billion of that total.

(iv) Significance: This notification is being provided as the additional MDE items were not enumerated in the original notification. The inclusion of this MDE represents an increase in capability over what was previously notified. The proposed articles and services will support the Government of Canada's capability to meet current and future threats by enhancing their incorporation of the AEGIS Combat System into their operations.

(v) Justification: This proposed sale will support the foreign policy and national security objectives of the United States by helping to improve the military capability of Canada, a NATO Ally that is an important force for ensuring political stability and economic progress, and a contributor to military, peacekeeping, and humanitarian operations around the world.

(vi) Sensitivity of Technology:

AN/WSN-7 is the U.S. Navy's Inertial Navigation System (INS) and part of an overall Position-Navigation-Time (PNT) solution for the AEGIS Combat System. AN/WSN-12 is the U.S. Navy's next generation INS. AN/WSN-7/12 measures the movement of the ship, determines position and direction, and accepts GPS updates to compute precise movement, position, and direction rates.

The Tactical Tomahawk Weapon Control System (TTWCS) is the U.S. Navy's shipboard component for command and control, mission planning, and distribution of Tomahawk tactical and strike data for the Tomahawk missile.

Multifunctional Information Distribution System Joint Tactical Radio System (MIDS JTRS) provides secure, high capacity, jam-resistant position determination, cooperative identification, and digital data and voice transfer capability.

MIDS On Ship Modernized (MOS Mod) integrates a MIDS JTRS terminal with Navy Ship Input Output (NSIO) to produce a high power (1 kW) Link-16 radio frequency output. It is designed to operate with the Command and Control Processor (C2P).

C2P is a shipboard system that provides real-time control and management of Tactical Digital Information Links (TADILs) through interfaces with the host combat system and tactical data link terminals. TADILs include Link-16, Satellite TADIL J, Joint Range Extension (JRE).

AN/SLQ-32(v)6 is an electronic warfare equipment suite installed on all surface combatants, aircraft carriers, amphibious ships, and auxiliaries in the U.S. Navy. The system provides early detection, analysis, threat warning, and protection from anti-ship missiles.

The Global Command and Control System—Maritime (GCCS-M) provides a single integrated and scalable command and control system. GCCS-M fuses, correlates, filters, maintains, and displays location and attribute information on friendly, hostile, and neutral land, sea, and air forces, and integrates this data with available intelligence and environmental information to support command decisions.

The MK 331 Torpedo Setting Panel (TSP) is the interface between the ship's underwater weapon control system and MK 54 Surface Vessel Torpedo Tubes (SVTT). It provides digital presets, updates until time of fire, and provides remote and local preset and launch capability in the ship's magazine.

The highest level of classification of defense articles, components, and services included in this potential sale is SECRET.

(vii) Date Report Delivered to Congress: October 4, 2024

[FR Doc. 2025-20041 Filed 11-17-25; 8:45 am]

BILLING CODE 6001-FR-P